DEPARTMENT OF HEALTH AND HUMAN SERVICES

Administration for Children and Families

Notice of Committee Meetings, President's Committee for People With Intellectual Disabilities (PCPID)

AGENCY: President's Committee for People with Intellectual Disabilities, ACF, HHS.

ACTION: Notice of Committee Meetings.

DATES: Friday, April 6, 2012, from 1 p.m. to 2:30 p.m. EST, via audio conferencing. Thursday, May 17, 2012, from 8 a.m. to 5 p.m.; and Friday, May 18, 2012 from 8:30 a.m. to 5 p.m. EST, face-to-face meeting. All meetings will be open to the public.

Details for public access to the April 6th Committee Conference Call are cited below:

Toll Free Dial-In Number: 888-989-0724.

Pass Code: 1939592.

ADDRESSES: The May 17th-18th PCPID Meeting will be held in Conference Room 505-A of the Hubert H. Humphrey Building, U.S. Department of Health and Human Services, 200 Independence Avenue SW., Washington, DC 20201. Individuals who would like to participate via conference call may do so by dialing 888-989-0724, pass code: 1939592. Individuals whose full participation in the meeting will require special accommodations (e.g., sign language interpreting services, assistive listening devices, materials in alternative format such as large print or Braille) should notify PCPID Executive Administrative Assistant, Genevieve Swift, via email at Edith.Swift@acf.hhs.gov, or via telephone at 202-619-0634. Special accommodations needed for the April 6th Committee Conference Call, must be received no later than Friday, March 30, 2012. Special accommodations needed for the May 17th-18th PCPID Meeting, must be received no later than Monday, May 7, 2012. PCPID will attempt to meet requests for accommodations made after that date, but cannot guarantee ability to grant requests received after this deadline. All meeting sites are barrier free, consistent with the Americans with Disabilities Act (ADA), and the Federal Advisory Committee Act (FACA).

Agenda: Discussion plans for developing the PCPID 2012 Report to the President.

Additional Information: For further information, please contact Laverdia Taylor Roach, Senior Advisor, President's Committee for People with Intellectual Disabilities, The Aerospace Center, Second Floor West, 370 L'Enfant Promenade SW., Washington, DC 20447. Telephone: 202-619-0634. Fax: 202-205-9519. Email: Laverdia.Roach@acf.hhs.gov.

SUPPLEMENTARY INFORMATION: PCPID acts in an advisory capacity to the President and the Secretary of Health and Human Services, through the Administration on Developmental Disabilities, on a broad range of topics relating to programs, services, and supports for persons with intellectual disabilities. The PCPID Executive Order stipulates that the Committee shall: (1) Provide such advice concerning intellectual disabilities as the President or the Secretary of Health and Human Services may request; and (2) provide advice to the President concerning the following for people with intellectual disabilities: (a) Expansion of educational opportunities; (b) promotion of homeownership; (c) assurance of workplace integration; (d) improvement of transportation options; (e) expansion of full access to community living; and (f) increasing access to assistive and universally designed technologies.

Dated: February 22, 2012.
Jamie Kendall,
Deputy Commissioner, Administration on Developmental Disabilities.

[FR Doc. 2012-4829 Filed 2-28-12; 8:45 am]

BILLING CODE 4184-01-P